DEPARTMENT OF TRANSPORTATION

Federal Aviation Administration

14 CFR Part 39

[Docket No. 2003-NM-157-AD; Amendment 39-13562; AD 2004-07-18]

RIN 2120-AA64

Airworthiness Directives; Bombardier Model CL-600-2B19 (Regional Jet Series 100 & 440) Airplanes

AGENCY: Federal Aviation Administration, DOT.

ACTION: Final rule.

SUMMARY: This amendment adopts a new airworthiness directive (AD), applicable to certain Bombardier Model CL-600-2B19 (Regional Jet Series 100 & 440) airplanes, that requires replacement of landing gear control handle components with new, improved components. This action is necessary to prevent an inability to lower or retract the landing gear using the landing gear control handle, which could result in use of Emergency Procedures using the landing gear manual release. This action is intended to address the identified unsafe condition.

DATES: Effective May 11, 2004.

The incorporation by reference of a certain publication listed in the regulations is approved by the Director of the Federal Register as of May 11, 2004.

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office, 1600 Stewart Avenue, suite 410, Westbury, New York; or at the Office of the Federal Register, 800 North Capitol Street, NW., suite 700, Washington, DC.

FOR FURTHER INFORMATION CONTACT: Dan Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION: A proposal to amend part 39 of the Federal Aviation Regulations (14 CFR part 39) to include an airworthiness directive (AD) that is applicable to certain Bombardier Model CL-600-2B19 (Regional Jet Series 100 & 440) airplanes was published in the Federal Register on January 29, 2004 (69 FR 4261). That action proposed to require replacement of landing gear control handle components with new, improved components.

Comments

Interested persons have been afforded an opportunity to participate in the making of this amendment. No comments were submitted in response to the proposal or the FAA's determination of the cost to the public.

Conclusion

The FAA has determined that air safety and the public interest require the adoption of the rule as proposed.

Cost Impact

The FAA estimates that 184 airplanes of U.S. registry will be affected by this AD, that it will take approximately 1 work hour per airplane to accomplish the replacement, and that the average labor rate is $65 per work hour. Based on these figures, the cost impact of this AD on U.S. operators is estimated to be $11,960, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-07-18 Bombardier, Inc. (Formerly Canadair): Amendment 39-13562. Docket 2003-NM-157-AD.

Applicability: Model CL-600-2B19 (Regional Jet Series 100 & 440) airplanes, serial numbers 7375 through 7632 inclusive, certificated in any category; equipped with landing gear control handle assemblies, Canadair Part Number (P/N) 601R50967-7 (Vendor P/N 7-45502-1) or Canadair P/N 601R50967-9 (Vendor P/N 7-45502-3.

Compliance: Required as indicated, unless accomplished previously.

To prevent an inability to lower or retract the landing gear using the landing gear control handle, which could result in use of Emergency Procedures using the landing gear manual release, accomplish the following:

Replacement

(a) Within 5,000 flight cycles after the effective date of this AD, or within one year after the effective date of this AD, whichever occurs first; replace the landing gear control handle with a new landing gear control handle, Canadair P/N 601R50967-11 (Vendor P/N 7-45502-5), per the Accomplishment Instructions of Bombardier Service Bulletin 601R-32-084, dated May 17, 2002.

Exception to Service Bulletin Reporting

(b) Although the service bulletin referenced in this AD specifies to submit certain information to the manufacturer, this AD does not include such a requirement.

Maintenance Requirements Manual Revision

(c) Accomplishment of the actions in paragraph (a) of this AD constitutes terminating action for periodic crack inspections, as specified in Bombardier Temporary Revision 2B-627 to Part 2 of Appendix B, Airworthiness Limitations, of the Bombardier, Model CL 600-2B19, Maintenance Requirements Manual.

Alternative Methods of Compliance

(d) In accordance with 14 CFR 39.19, the Manager, New York Aircraft Certification Office (ACO), FAA, is authorized to approve alternative methods of compliance for this AD.

Incorporation by Reference

(e) The actions shall be done in accordance with Bombardier Service Bulletin 601R-32-084, dated May 17, 2002. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 1600 Stewart Avenue, suite 410, Westbury, New York; or at the Office of the Federal Register, 800 North Capitol Street, NW., suite 700, Washington, DC.

Note 1: The subject of this AD is addressed in Canadian airworthiness directive CF-2003-03, dated February 3, 2003.

Effective Date

(f) This amendment becomes effective on May 11, 2004.

Issued in Renton, Washington, on March 25, 2004.
Kevin M. Mullin,
Acting Manager, Transport Airplane Directorate, Aircraft Certification Service.

[FR Doc. 04-7300 Filed 4-5-04; 8:45 am]

BILLING CODE 4910-13-P